DEPARTMENT OF COMMERCE

International Trade Administration

[A-791-809]

Certain Hot-Rolled Carbon Steel Flat Products from South Africa: Final Results of Antidumping Duty Administrative Review

AGENCY: Import Administration, International Trade Administration, U.S. Department of Commerce.

SUMMARY: On July 9, 2003, the Department of Commerce (the Department) published the preliminary results of its administrative review of the antidumping duty order on certain hot-rolled carbon steel flat products from South Africa (68 FR 40903). The review covers shipments of this merchandise to the United States for the period May 3, 2001 through August 31, 2002, by Iscor Ltd. (Iscor), Saldanha Steel Ltd. (Saldanha) and Highveld Steel & Vanadium Corp. Ltd. (Highveld).

We gave interested parties an opportunity to comment on our preliminary results. We received a case brief from the United States Steel Corporation (USS), and Nucor Corporation (Nucor) filed a letter in support of the case brief of USS. Iscor and Saldanha (Iscor/Saldanha),¹ and Highveld filed rebuttal comments. Based on our analysis of comments, we have made no changes to the preliminary results. For the final dumping margins see the “Final Results of Review” section below.

¹ In the final determination of the antidumping investigation, the Department determined that Iscor and Saldanha were affiliated, and should be treated as a single entity for purposes of the investigation. See Notice of Final Determination of Sales at Less Than Fair Value and Antidumping Duty Order: Certain Hot-Rolled Carbon Steel Flat Products from South Africa, 66 FR 48242 (Sept. 19, 2001) (LTFV investigation). This was based on information on the public record of the contemporaneous countervailing duty investigation of hot-rolled products from South Africa that (1) Iscor is a 50 percent shareholder in Saldanha, and is in a position to exercise control of Saldanha's assets, and (2) both companies produce the subject merchandise. In this review, the Department requested that, if the circumstances had not changed, the two parties file a combined response. Although Iscor/Saldanha did not file any response, the December 30, 2002 letter declining to respond to the questionnaire was filed jointly.

EFFECTIVE DATE: November 17, 2003.

FOR FURTHER INFORMATION CONTACT: Scot Fullerton or Elfi Blum, Office of Antidumping/Countervailing Duty Enforcement VII, Import Administration, International Trade Administration, U.S. Department of Commerce, 14th Street and Constitution Avenue, NW., Washington, DC 20230; telephone (202) 482-1386 or (202) 482-0197, respectively.

SUPPLEMENTARY INFORMATION:

Background

On July 9, 2003, the Department published the preliminary results of its administrative review of the antidumping duty order on certain hot-rolled carbon steel flat products from South Africa. See Certain Hot-Rolled Carbon Steel Flat Products from South Africa: Preliminary Results of Antidumping Duty Administrative Review, 68 FR 40903 (July 9, 2003) (Preliminary Results). In the Preliminary Results, we based the dumping margins for Iscor/Saldanha and Highveld on total adverse facts available (AFA). We gave interested parties an opportunity to comment on our preliminary results. We received a case brief from the United States Steel Corporation (USS) on August 8, 2003. Nucor Corporation (Nucor) also filed a letter in support of the case brief of USS on August 8, 2003. Iscor, Saldanha (Iscor/Saldanha) and Highveld filed rebuttal comments on August 15, 2003. On August 8, 2003, USS requested a hearing in this case. A hearing was held on September 17, 2003. The Department has now completed this review in accordance with section 751 of the Tariff Act of 1930, as amended (the Act).

Scope of the Antidumping Duty Order

For purposes of this review, the products covered are certain hot-rolled carbon steel flat products of a rectangular shape, of a width of 0.5 inch or greater, neither clad, plated, nor coated with metal, and whether or not painted, varnished, or coated with plastics or other non-metallic substances, in coils (whether or not in successively superimposed layers), regardless of thickness, and in straight lengths, of a thickness of less than 4.75 mm and of a width measuring at least 10 times the thickness. Universal mill plate (i.e., flat-rolled products rolled on four faces or in a closed box pass, of a width exceeding 150 mm, but not exceeding 1250 mm, and of a thickness of not less than 4.0 mm, not in coils and without patterns in relief) of a thickness not less than 4.0 mm is not included within the scope of this review. Specifically included within the scope of this review are vacuum degassed, fully stabilized (commonly referred to as interstitial-free (IF)) steels, high strength low alloy (HSLA) steels, and the substrate for motor lamination steels. IF steels are recognized as low carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such as silicon and aluminum.

Steel products to be included in the scope of this review, regardless of definitions in the Harmonized Tariff Schedule of the United States (HTS), are products in which: (i) Iron predominates, by weight, over each of the other contained elements; (ii) the carbon content is 2 percent or less, by weight; and (iii) none of the elements listed below exceeds the quantity, by weight, respectively indicated:

1.80 percent of manganese, or

2.25 percent of silicon, or

1.00 percent of copper, or

0.50 percent of aluminum, or

1.25 percent of chromium, or

0.30 percent of cobalt, or

0.40 percent of lead, or

1.25 percent of nickel, or

0.30 percent of tungsten, or

0.10 percent of molybdenum, or

0.10 percent of niobium, or

0.15 percent of vanadium, or

0.15 percent of zirconium.

All products that meet the physical and chemical description provided above are within the scope of this review unless otherwise excluded. The following products, by way of example, are outside or specifically excluded from the scope of this review:

• Alloy hot-rolled steel products in which at least one of the chemical elements exceeds those listed above (including, e.g., ASTM specifications A543, A387, A514, A517, A506).

• Society of Automotive Engineers (SAE)/American Iron and Steel Institute (AISI) grades of series 2300 and higher.

• Ball bearings steels, as defined in the HTS.

• Tool steels, as defined in the HTS.

• Silico-manganese (as defined in the HTS) or silicon electrical steel with a silicon level exceeding 2.25 percent.

• ASTM specifications A710 and A736.

• USS Abrasion-resistant steels (USS AR 400, USS AR 500).

• All products (proprietary or otherwise) based on an alloy ASTM specification (sample specifications: ASTM A506, A507).

• Non-rectangular shapes, not in coils, which are the result of having been processed by cutting or stamping and which have assumed the character of articles or products classified outside chapter 72 of the HTS.

The merchandise subject to this review is classified in the HTS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled flat-rolled carbon steel flat products covered by this review, including: vacuum degassed fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00. Although the HTS subheadings are provided for convenience and U.S. Customs and Border Protection (CBP) purposes, the written description of the merchandise under review is dispositive.

Analysis of Comments Received

All issues raised in the case and rebuttal briefs by parties to this administrative review are addressed in the Issues and Decision Memorandum from Joseph A Spetrini, Deputy Assistant Secretary for Import Administration, to James J. Jochum, Assistant Secretary for Import Administration: Issues and Decision Memorandum for the Final Results of the Antidumping Duty Administrative Review of Certain Hot-Rolled Carbon Steel Flat Products from South Africa: May 3, 2001 through August 31, 2002, dated November 6, 2003 (Decision Memo), which is hereby adopted by this notice.

A list of the issues which parties have raised and to which we have responded, all of which are in the Decision Memo, is attached to this notice as an appendix. Parties can find a complete discussion of all issues raised in this review and the corresponding recommendations in this public memorandum, which is on file in the Central Records Unit, room B-099 of the main Commerce Building. In addition, a complete version of the Decision Memo can be accessed directly on the Web at http://ia.ita.doc.gov. The paper copy and electronic version of the Decision Memo are identical in content.

Application of Facts Available

In the Preliminary Results, we applied facts available to Iscor/Saldanha and Highveld pursuant to sections 776(a)(1) and (2) of the Act because Iscor/Saldanha's and Highveld's stated decision not to participate in the review constitutes a refusal to provide the information necessary to conduct the Department's antidumping analysis, pursuant to section 776(a)(2)(A) of the Act. Moreover, respondents' non-participation significantly impedes the review process. See section 776(a)(2)(C) of the Act.

Furthermore, we used an adverse inference and applied AFA pursuant to section 776(b) of the Act because we determined that Iscor/Saldanha and Highveld had failed to cooperate to the best of their ability by refusing to respond to the Department's questionnaire, making it impossible for the Department to perform any company-specific analysis or calculate dumping margins, if any, for the period of review (POR). After analyzing the comments received, we continue to find that the use of AFA is warranted for exports of subject merchandise to the United States by Iscor/Saldanha and Highveld in these final results. For a complete discussion, see the Decision Memo. As AFA, the Department is assigning the rate of 9.28 percent. This rate was derived from the petition, and was the only rate in the notice of initiation of investigation. See 67 FR 65336. It is also the rate applied in the final determination of the investigation of sales at less-than-fair-value (LTFV) because we found in the investigation that the parties did not cooperate to the best of their ability and we applied AFA (see Notice of Final Determination of Sales at Less Than Fair Value: Certain Hot-Rolled Carbon Steel Flat Products from South Africa, 66 FR 37002 (July 16, 2001)). It is the rate currently in effect for all exporters. As discussed further below, this rate has been corroborated.

Corroboration of Secondary Information Used as AFA

Section 776(c) of the Act provides that when the Department relies on the facts otherwise available and relies on “secondary information,” the Department shall, to the extent practicable, corroborate that information from independent sources reasonably at the Department's disposal. The SAA clarifies that the petition is “secondary information,” and states that “corroborate” means to determine that the information used has probative value. See Statement of Administrative Action, URAA, H.R. Doc. 316, Vol 1, 103d Cong. (1994) (SAA) at 870. To corroborate secondary information, the Department will, to the extent practicable, examine the reliability and relevance of the information to be used. We have previously examined the 9.28 percent rate and found it to be reliable. See Memorandum from Doug Campau to Barbara Tillman, Preliminary Determination of Certain Hot-Rolled Carbon Steel Flat Products From South Africa: Corroboration of Secondary Information, dated April 23, 2001, and placed on the record of this review on June 30, 2003.

As part of the corroboration process, we have re-examined the information used as facts available in the investigation. For purposes of this administrative review, we have reviewed the petition and the administrative record, and found no reason to believe that the reliability of this information should be called into question.

Further, the Department considers information reasonably at its disposal to determine whether a margin continues to have relevance. With respect to the relevance aspect of corroboration, however, the Department will consider information reasonably at its disposal as to whether there are circumstances that would render a margin inappropriate. Where circumstances indicate that the selected margin is not appropriate as adverse facts available, the Department will disregard the selected margin and determine an appropriate margin. See e.g., Fresh Cut Flowers from Mexico: Final Results of Antidumping Administrative Review, 61 FR 6812 (February 22, 1996) (Flowers from Mexico). We found the AFA rate from the LTFV investigation in this case to be relevant and reliable, and therefore corroborated for purposes of this administrative review. Accordingly, we determine that the information from the petition remains the most appropriate basis for AFA.

When circumstances warrant, the Department may diverge from its standard practice of selecting as the AFA rate the highest rate in any segment of the proceeding and calculate the AFA rate pursuant to section 776(b) of the Act. For example, in Flowers from Mexico, the Department did not use the highest margin in that case as best information available (the predecessor to facts available) because the margin was based on another company's aberrational business expense that resulted in an unusually high margin. See Flowers from Mexico at 6814. In other cases, the Department did not apply a margin, because that figure was subsequently discredited, or the facts did not support such a usage. See also Allegheny Ludlum Corp., et al. v. United States, Slip Op 03-89 (July 24, 2003 at 22-26, currently on appeal, and D & L Supply Co. v. United States, 113 F.3d 1220, 1221 (Fed. Cir. 1997) (the Department will not use a margin that has been judicially invalidated). None of these unusual circumstances are present here. Moreover, the rate selected is the rate currently applicable to all exporters.

Accordingly, we determine that the highest rate from any segment of this administrative proceeding (i.e., the rate of 9.28 percent from the determination of sales at LTFV) is in accord with the requirement of section 776(c) of the Act that secondary information be corroborated (i.e., that it have probative value).

Final Results of Review

As a result of our review, we determine the antidumping margins for Iscor/Saldanha and Highveld, based on total AFA, to be as follows:

Manufacturer/Exporter | Time Period | Margin (percent)
Iscor/Saldanha | 05/03/01-08/31/02 | 9.28
Highveld | 05/03/01-08/31/02 | 9.28

Duty Assessment and Cash Deposit Requirements

The Department shall determine, and CBP shall assess, antidumping duties on all appropriate entries. The Department will issue appropriate appraisement instructions directly to CBP within 15 days of publication of the final results of review. Furthermore, the following deposit rates will be effective with respect to all shipments of certain hot-rolled carbon steel flat products from South Africa entered, or withdrawn from warehouse, for consumption on or after the publication date of the final results, as provided for by section 751(a)(2)(C) of the Act: (1) For Iscor/Saldanha and Highveld, the cash deposit rate will be the rate indicated above; (2) for previously reviewed or investigated companies not listed above, the cash deposit rate will be the company-specific rate established for the most recent period; (3) if the exporter is not a firm covered in this review, a prior review, or the LTFV investigation, but the manufacturer is, the cash deposit rate will be the rate established for the most recent period for the manufacturer of the subject merchandise; and (4) for all other producers and/or exporters of this merchandise, the cash deposit rate shall be the all other rate established in the LTFV investigation, which is 9.28 percent. These deposit rates, when imposed, shall remain in effect until publication of the final results of the next administrative review.

Notification of Interested Parties

This notice also serves as a final reminder to importers of their responsibility under section 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective orders (APO) of their responsibility concerning the disposition of proprietary information disclosed under APO as explained in the administrative order itself. Timely written notification of the return/destruction of APO materials or conversion to judicial protective order is hereby requested. Failure to comply with the regulations and terms of an APO is a sanctionable violation.

This administrative review and notice are in accordance with sections 751(a)(3)(A) and 777(i)(1) of the Act.

Dated: November 6, 2003.
Joseph A. Spetrini,
Acting Assistant Secretary for Import Administration.

Appendix

List of Issues

Comment 1: There Has Been Continued Injurious Dumping & Lack of Cooperation by Respondents.

Comment 2: The Statute and the Department's Practice Require It to Recalculate the Margin: The Margins Should Reflect Current Industry/Market Conditions and Trading Practices.

Comment 3: The Department Should Recalculate the Margin to Update It to the POR.

Comment 4: The Cases Cited in the Preliminary Results Provide No Basis for the Department's Determination.

[FR Doc. 03-28669 Filed 11-14-03; 8:45 am]

BILLING CODE 3510-DS-P